DEPARTMENT OF LABOR

Employment and Training Administration

Agency Information Collection Activities; Comment Request; Unemployment Compensation for Ex-Servicemembers, Handbook No. 384

ACTION: Notice.

SUMMARY: The Department of Labor's (DOL) Employment and Training Administration (ETA) is soliciting comments concerning a proposed revision to the information collection request (ICR) titled, “Unemployment Compensation for Ex-servicemembers Handbook No. 384.” This comment request is part of continuing Departmental efforts to reduce paperwork and respondent burden in accordance with the Paperwork Reduction Act of 1995 (PRA).

DATES: Consideration will be given to all written comments received by April 25, 2022.

ADDRESSES: A copy of this ICR with applicable supporting documentation, including a description of the likely respondents, proposed frequency of response, and estimated total burden, may be obtained free by contacting Jorge Colón by telephone at (202) 693-0173 (this is not a toll-free number), TTY 1-877-889-5627 (this is not a toll-free number), or by email at Colon.Jorge.D@dol.gov.

Submit written comments about, or requests for a copy of, this ICR by mail or courier to the U.S. Department of Labor, Employment and Training Administration, Office of Unemployment Insurance, 200 Constitution Ave. NW, S-4524, Washington, DC 20210; or by email: Colon.Jorge.D@dol.gov or by Fax at 202-693-3975.

FOR FURTHER INFORMATION CONTACT: Jorge Colón by telephone at (202) 693-0173 (this is not a toll-free number) or by email at Colon.Jorge.D@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed. This notice reflects a revision changing the burden for the frequency of responses per respondent, reducing the frequency from 51.5 to 36.

State Workforce Agencies (SWA) administer the Unemployment Compensation for Ex-servicemembers (UCX) program in accordance with the same terms and provisions of the paying State's unemployment insurance laws, which apply to unemployed claimants who worked in the private sector. SWAs must be able to obtain certain information (wage and separation data) about each claimant filing claims for UCX benefits in order to determine their eligibility for benefits. DOL has prescribed a form to enable SWAs to obtain this necessary information from the Military Branches. Form ETA-843 is essential to the UCX claims process, and the frequency of use varies depending upon the circumstances involved. Sections 8521-8525 of Title 5 of the U.S. Code authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0176.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Unemployment Compensation for Ex-servicemembers Handbook No. 384.

Form: ETA-843.

OMB Control Number: 1205-0176.

Affected Public: State Workforce Agencies.

Estimated Number of Respondents: 53.

Frequency: 36.

Total Estimated Annual Responses: 1,908.

Estimated Average Time per Response: 5 minutes.

Estimated Total Annual Burden Hours: 158 hours.

Total Estimated Annual Other Cost Burden: $0.

(Authority: 44 U.S.C. 3506(c)(2)(A))

Angela Hanks,
Acting Assistant Secretary for Employment and Training, Labor.

[FR Doc. 2022-03766 Filed 2-22-22; 8:45 am]

BILLING CODE 4510-FW-P